GOVERNMENT PRINTING OFFICE

Depository Library Council to the Public Printer Meeting

The Depository Library Council to the Public Printer (DLC) will meet on Sunday, April 15, 2007, through Wednesday, April 18, 2007 in Denver, Colorado. The sessions will take place from 8 a.m. to 5 p.m. on Sunday through Tuesday, and 8 a.m. to 12 noon on Wednesday. The meeting will be held at the Adam's Mark Hotel, 1550 Court Place, Denver, Colorado. The purpose of this meeting is to discuss the Federal Depository Library Program. All sessions are open to the public. The sleeping rooms available at the Adam's Mark Hotel will be at the Government rate of $127.00 (plus applicable state and local taxes, currently 14.85%) a night for a single or double. The Adam's Mark Hotel is in compliance with the requirements of Title III of the Americans with Disabilities Act and meets all Fire Safety Act regulations.

William H. Turri,
Acting, Public Printer of the United States.

[FR Doc. 07-1012 Filed 3-5-07; 8:45 am]

BILLING CODE 1520-01-M